DEPARTMENT OF COMMERCE

International Trade Administration

[A-570-504]

Petroleum Wax Candles From the People's Republic of China: Continuation of Antidumping Duty Order

AGENCY: Import Administration, International Trade Administration, Department of Commerce.

DATES: Effective Date: January 6, 2011.

SUMMARY: As a result of the determinations by the Department of Commerce (“Department”) and the International Trade Commission (“ITC”) that revocation of the antidumping duty order on petroleum wax candles from the People's Republic of China (“PRC”) would likely lead to a continuation or recurrence of dumping and material injury to an industry in the United States, the Department is publishing a notice of continuation of the antidumping duty order.

FOR FURTHER INFORMATION CONTACT: Tim Lord, AD/CVD Operations, Import Administration, International Trade Administration, U.S. Department of Commerce, 14th Street and Constitution Avenue, NW., Washington, DC 20230; telephone: (202) 482-7425.

SUPPLEMENTARY INFORMATION: On July 9, 2010, the Department published the notice of initiation of the sunset review of the antidumping duty order on petroleum wax candles from the PRC pursuant to section 751(c)(2) of the Tariff Act of 1930, as amended (“the Act”). See Initiation of Five-Year (“Sunset”) Review, 75 FR 39494 (July 9, 2010).

As a result of its review, the Department determined that revocation of the antidumping duty order on petroleum wax candles from the PRC would likely lead to a continuation or recurrence of dumping and, therefore, notified the ITC of the magnitude of the margins likely to prevail should the order be revoked. See Petroleum Wax Candles From the People's Republic of China: Final Results of Expedited Third Sunset Review of Antidumping Duty Order, 75 FR 70713 (November 18, 2010).

On December 17, 2010, the ITC determined, pursuant to section 751(c)(1) of the Act, that revocation of the antidumping duty order on petroleum wax candles from the PRC would likely lead to a continuation or recurrence of material injury to an industry in the United States within a reasonably foreseeable future. See Petroleum Wax Candles From China Determination, 75 FR 80843 (December 23, 2010), and USITC Publication 4207 (December 2010), Petroleum Wax Candles From China: Investigation No. 731-TA-282 (Third Review).

Scope of the Order

The products covered by the order are certain scented or unscented petroleum wax candles made from petroleum wax and having fiber or paper-cored wicks. They are sold in the following shapes: Tapers, spirals and straight-sided dinner candles; rounds, columns, pillars, votives; and various wax-filled containers. The products were originally classifiable under the Tariff Schedules of the United States item 755.25, Candles and Tapers. The products are currently classifiable under the Harmonized Tariff Schedule (“HTSUS”) item number 3406.00.00. The HTSUS item numbers are provided for convenience and customs purposes. The written description remains dispositive.

Continuation of the Order

As a result of these determinations by the Department and the ITC that revocation of the antidumping duty order would likely lead to a continuation or recurrence of dumping and material injury to an industry in the United States, pursuant to section 751(d)(2) of the Act, the Department hereby orders the continuation of the antidumping order on petroleum wax candles from the PRC. U.S. Customs and Border Protection will continue to collect antidumping duty cash deposits at the rates in effect at the time of entry for all imports of subject merchandise. The effective date of the continuation of the order will be the date of publication in the Federal Register of this notice of continuation. Pursuant to section 751(c)(2) of the Act, the Department intends to initiate the next five-year review of the order not later than 30 days prior to the fifth anniversary of the effective date of continuation.

This five-year (sunset) review and this notice are in accordance with section 751(c) of the Act and published pursuant to section 777(i)(1) of the Act.

Dated: December 29, 2010.
Edward C. Yang,
Acting Deputy Assistant Secretary for Import Administration.

[FR Doc. 2011-28 Filed 1-5-11; 8:45 am]

BILLING CODE 3510-DS-P